ENVIRONMENTAL PROTECTION AGENCY

[FRL-8973-7]

Meeting of the National Drinking Water Advisory Council—Notice of Public Meeting

AGENCY: Environmental Protection Agency.

ACTION: Notice.

SUMMARY: Under Section 10(a)(2) of Public Law 92-423, “The Federal Advisory Committee Act,” notice is hereby given of a meeting of the National Drinking Water Advisory Council (NDWAC), established under the Safe Drinking Water Act, as amended (42 U.S.C. 300f et seq.). The Council will consider various issues associated with drinking water protection, water security, and research.

DATES: The Council meeting will be held on November 11, 2009, from 1 p.m. to 5 p.m., November 12, 2009, from 8:30 a.m. to 5 p.m., and November 13, 2009, from 8 a.m. to noon Eastern Time.

ADDRESSES: The meeting will be held at the Marriott Philadelphia Downtown, 1201 Market Street, Philadelphia, PA 19107.

FOR FURTHER INFORMATION CONTACT: Members of the public who would like to attend the meeting, present an oral statement, or submit a written statement, should contact Veronica Blette, by e-mail at: blette.veronica@epa.gov, by phone, 202-564-4094, or by regular mail at the U.S. Environmental Protection Agency, Office of Ground Water and Drinking Water (MC 4601M), 1200 Pennsylvania Avenue, NW., Washington, DC 20460.

SUPPLEMENTARY INFORMATION: The meeting is open to the public. The Council encourages the public's input and will allocate one hour (11:30 a.m.-12:30 p.m.) on November 12, 2009, for this purpose. Oral statements will be limited to five minutes. It is preferred that only one person present the statement on behalf of a group or organization. To ensure adequate time for public involvement, individuals or organizations interested in presenting an oral statement should notify Veronica Blette by telephone at 202-564-4094 no later than November 4, 2009. Any person who wishes to file a written statement can do so before or after a Council meeting. Written statements received by November 4, 2009 will be distributed to all members of the Council before any final discussion or vote is completed. Any statements received November 5, 2009, or after the meeting will become part of the permanent meeting file and will be forwarded to the Council members for their information.

Special Accommodations

For information on access or services for individuals with disabilities, please contact Veronica Blette at 202-564-4094 or by e-mail at blette.veronica@epa.gov. To request accommodation of a disability, please contact Veronica Blette, preferably, at least 10 days prior to the meeting to give EPA as much time as possible to process your request.

Dated: October 20, 2009.
Cynthia C. Dougherty,
Director, Office of Ground Water and Drinking Water.

[FR Doc. E9-25740 Filed 10-23-09; 8:45 am]

BILLING CODE 6560-50-P